FEDERAL COMMUNICATIONS COMMISSION

47 CFR Part 79

[MM Docket No. 95-176; FCC 00-136]

Implementation of Section 305 of the Telecommunications Act of 1996, Closed Captioning and Video Description of Video Programming: Accessibility of Emergency Programming

AGENCY: Federal Communications Commission.

ACTION: Final rule; establishment of effective date.

SUMMARY: The Commission's rule, 47 CFR 79.2 which contains information collection requirements, became effective August 29, 2000. This rule, which was published in the Federal Register on May 9, 2000, requires emergency information that is provided to viewers be made accessible to persons with hearing disabilities. This action is necessary in order to comply with section 305 of the Telecommunications Act of 1996.

EFFECTIVE DATE: The rule, 47 CFR 79.2, published at 65 FR 26757, May 9, 2000, became effective on August 29, 2000.

FOR FURTHER INFORMATION CONTACT: Marcia Glauberman (202) 418-7200, TTY (202) 418-7172, or via Internet at mglauber@fcc.gov.

SUPPLEMENTARY INFORMATION: 1. On April 13, 2000, the Commission adopted a Second Report and Order adding a rule to require that emergency information be made accessible to persons with hearing disabilities through closed captioning or by using a method of visual presentation. A summary of the rule was published in the Federal Register. See 65 FR 26757, May 9, 2000. Because the rule imposed new or modified information collection requirements, it could not become effective until approved by the Office of Management and Budget (“OMB”). OMB approved the rule on August 29, 2000.

2. The Federal Register summary stated that the Commission would publish a document establishing the effective date of the rule. The rule became effective on August 29, 2000. This publication satisfies the statement that the Commission would publish a document establishing the effective date of the rule.

Federal Communications Commission.
Magalie Roman Salas,
Secretary.

[FR Doc. 00-22922 Filed 9-6-00; 8:45 am]

BILLING CODE 6712-01-P